Title 3—

The President

Proclamation 10657 of October 23, 2023

United Nations Day, 2023

By the President of the United States of America

A Proclamation

Seventy-seven years ago, leaders from around the globe gathered for the first United Nations General Assembly. With the horrors of World War II weighing on their hearts and the hopes of humanity resting on their shoulders, they established institutions that are an enduring legacy of the progress we have made in creating a world where all people can live with dignity. This United Nations Day, we renew our commitment to sustaining and strengthening those institutions. As we commemorate the 75th anniversary of the adoption of the Universal Declaration of Human Rights, may we live up to its fundamental promise by continuing to advance the causes of freedom, justice, and peace in the world.

We are at an inflection point in world history. From Russia's brutal invasion of Ukraine and Hamas' brutal terrorist attack on Israel to the threat of climate change, we face enormous challenges to the systems our forebearers fought so hard to create. The decisions we make now will determine our course for generations to come. The United States has a duty to lead in this critical moment. We will continue to join together with international partners under a common vision for the future of the world. This means working together to accelerate progress toward the Sustainable Development Goals (SDGs)—17 goals adopted by all United Nations member states in 2015 as a call to action and clear roadmap for people and the planet. Through the SDGs, we can advance toward a future where extreme poverty does not exist, our children do not go hungry, everyone has access to quality health care, workers are empowered, our environment is protected, entrepreneurs and innovators can access opportunity, conflicts are resolved peacefully, and countries can chart their own course. We will also continue to strengthen the United Nations' ability to end conflicts, build peace, defend human dignity, and respond to the humanitarian impacts of war. No nation can meet these challenges alone, and my Administration recognizes the critical role the United Nations plays in bringing about that vision.

Our country stands ready to continue the charge toward making that vision a reality by seeking a more secure, prosperous, and equitable world for everyone. We are working across the board to make global institutions more responsive, more effective, and more inclusive. Working closely with our international partners, we are closing global infrastructure gaps, bolstering the bonds that unite our nations, and unlocking endless opportunities that represent hope and possibility for all people. Through our Partnership for Workers' Rights, we are partnering with other United Nations member states around the world to give workers the tools they need to exercise their rights, promote a safe and decent work environment, advance a worker-centered clean energy transition, harness technology, and confront and condemn workplace discrimination in all its ugly forms. Meanwhile, we will continue working with our international partners to tackle the climate crisis and any other challenges we are confronted with.

When we stand together and recognize the common hopes that bind all humanity, we hold in our hands the power to bend the arc of history. So often, the work of the United Nations has been a reminder of those hopes, bringing us all closer together and pushing us to recognize one another as human beings worthy of dignity and respect. This United Nations Day, let us rededicate ourselves to supporting the United Nations in its mission to preserve peace, prevent conflict, and alleviate human suffering.

NOW, THEREFORE, I, JOSEPH R. BIDEN JR., President of the United States of America, by virtue of the authority vested in me by the Constitution and the laws of the United States, do hereby proclaim October 24, 2023, as United Nations Day. I urge the Governors of the United States and its Territories, and the officials of all other areas under the flag of the United States, to observe United Nations Day with appropriate ceremonies and activities.

IN WITNESS WHEREOF, I have hereunto set my hand this twenty-third day of October, in the year of our Lord two thousand twenty-three, and of the Independence of the United States of America the two hundred and forty-eighth.

[FR Doc. 2023-23803

Filed 10-25-23; 8:45 am]

Billing code 3395-F4-P